DEPARTMENT OF JUSTICE

Antitrust Division

Notice Pursuant to the National Cooperative Research and Production Act of 1993—Southwest Research Institute: Fuels, and Lubricants for Clean Heavy Duty Diesel Engines

Notice is hereby given that, on November 15, 2000, pursuant to section 6(a) of the National Cooperative Research and Production Act of 1993, 15 U.S.C. 4301 et seq. (“the Act”), Southwest Research Institute: Fuels and Lubricants for Clean Heavy Duty Diesel Engines (“SwRI”) has filed written notifications simultaneously with the Attorney General and the Federal Trade Commission disclosing changes in its membership status and project status. The notifications were filed for the purpose of extending the Act's provisions limiting the recovery of antitrust plaintiffs to actual damages under specified circumstances. Specifically, Equilon, Houston, TX has been added as a party to this venture and Texaco, Inc., Glenham, NY is no longer a member. Additionally, the parties to the cooperative research project have agreed to extend performance to April 1, 2001.

No other changes have been made in either the membership or planned activity of the group research project. Membership in this group research project remains open, and Southwest Research Institute: Fuels and Lubricants for Clean Heavy Duty Diesel Engines (“SwRI”) intends to file additional written notification disclosing all changes in membership.

On September 1, 1994, Southwest Research Institute: Fuels and Lubricants for Clean Heavy Diesel Engines (“SwRI”) filed its original notification pursuant to section 6(a) of the Act. The Department of Justice published a notice in the Federal Register pursuant to section 6(b) of the Act on November 7, 1994 (59 FR 55489). A Correction Notice to the notice of November 7, 1994 was published on February 1, 1995 at 60 FR 6295.

Constance K. Robinson,
Director of Operations, Antitrust Division.

[FR Doc. 01-5485 Filed 3-6-01; 8:45 am]

BILLING CODE 4410-11-M